DEPARTMENT OF EDUCATION

Applications for New Awards; Innovative Approaches to Literacy Program; Supplemental Notice

AGENCY: Office of Elementary and Secondary Education, Department of Education.

ACTION: Supplemental notice inviting applications.

Catalog of Federal Domestic Assistance (CFDA) Number: 84.215G

SUMMARY: On April 7, 2016, the Office of Elementary and Secondary Education of the U.S. Department of Education published in the Federal Register (81 FR 20376) a notice inviting applications for new awards for fiscal year (FY) 2016 for the Innovative Approaches to Literacy (IAL) program. This supplemental notice clarifies that, consistent with Congressional intent and the prior notices inviting applications for the IAL program, the Secretary reserves the right to award at least 50 percent of available IAL funds to local educational agencies (LEAs) that submit high-quality applications (on behalf of school libraries) for high-quality school library projects that increase access to a wide range of literacy resources (either print or electronic) and provide learning opportunities for all students. This notice provides clarification and does not change any portion of the April 7, 2016 notice inviting applications.

Deadline for Transmittal of Applications: May 9, 2016.

SUPPLEMENTARY INFORMATION: We are clarifying that, in accordance with the Senate report that accompanied the Consolidated Appropriations Act, 2016 (S. Rep. No. 114-74, at 170 (2015)) and the prior notices inviting applications for the IAL program, the Secretary reserves the right to fund a sufficient number of high-quality literacy and book distribution projects to ensure that no less than 50 percent of IAL funds go to applications from LEAs (on behalf of school libraries) for high-quality school library projects that increase access to a wide range of literacy resources (either print or electronic) and provide learning opportunities for all students.

Program Authority: Sections 5411-5413 of the Elementary and Secondary Education Act of 1965, as amended by the No Child Left Behind Act of 2001; title III of Division H of Public Law 114-113, the Consolidated Appropriations Act, 2016.

FOR FURTHER INFORMATION CONTACT: Beth Yeh, U.S. Department of Education, 400 Maryland Avenue SW., Room 3E332, Washington, DC 20202-6200. Telephone: (202) 205-5798 or by email: beth.yeh@ed.gov.

If you use a TDD or a TTY, call the FRS, toll free, at 1-800-877-8339.

Accessible Format: Individuals with disabilities can obtain this document and a copy of the application package in an accessible format (e.g., braille, large print, audiotape, or compact disc) on request to the program contact person listed under For Further Information Contact of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: April 18, 2016.
Ann Whalen,
Senior Advisor to the Secretary Delegated the Duties of Assistant Secretary for Elementary and Secondary Education.

[FR Doc. 2016-09287 Filed 4-20-16; 8:45 am]

BILLING CODE 4000-01-P